DEPARTMENT OF COMMERCE

National Oceanic and Atmospheric Administration

50 CFR Part 300

[Docket No. 180716667-9383-02; RTID 0648-XW017]

International Fisheries; Pacific Fisheries; 2019 Commercial Pacific Bluefin Tuna Inseason Actions; Notice of Commercial Pacific Bluefin Tuna 2020 Catch Limit

AGENCY: National Marine Fisheries Service (NMFS), National Oceanic and Atmospheric Administration (NOAA), Commerce.

ACTION: Announcements of 2019 trip limit modifications and 2020 catch limit.

SUMMARY: NMFS took two inseason actions in the commercial Pacific bluefin tuna fishery in 2019. On August 4, 2019, the commercial Pacific bluefin tuna trip limit was reduced to two metric tons (mt). On August 11, the commercial Pacific bluefin tuna trip limit was increased to 15 mt. Additionally, NMFS is using this notice to announce the Pacific bluefin tuna catch limit for U.S. commercial fishing vessels for 2020, which is 356 mt.

DATES: Inseason Action #1 was effective at 6 a.m. Pacific Daylight Time (PDT) on August 4, 2019. Inseason Action #2 was effective at 12 a.m. PDT on August 11, 2019. The 2020 catch limit is effective January 1, 2020, through December 31, 2020.

FOR FURTHER INFORMATION CONTACT: Celia Barroso, NMFS, West Coast Region, 562-432-1850.

SUPPLEMENTARY INFORMATION:

Background

On May 1, 2019, NMFS published a final rule establishing trip and catch limits for the commercial Pacific bluefin tuna fishery (84 FR 18409). The rule established a 630 mt biennial limit for 2019 and 2020, combined, not to exceed 425 mt in a single year. NMFS estimates that 274 mt was caught in 2019; consequently, the commercial Pacific bluefin tuna catch limit for 2020 is 356 mt. The rule also established a 15-mt trip limit until catch was within or expected to be within 50 mt of the annual limit, at which time the trip limit would be reduced, through inseason action, to two mt. In other words, the trip limit is reduced to two mt when NMFS anticipates that the Pacific bluefin tuna harvest level reaches 375 mt (based on rules and assumptions set forth in the final rulemaking, including pre-trip notifications and catch information). Any inseason action would be in effect on the date and time posted on the NMFS website, immediately followed up by a notice to mariners by the U.S. Coast Guard, and when practicable, publication in the Federal Register. If inseason action was taken prematurely, NMFS could reverse the action using the same inseason action process described above. This Federal Register notice announces two inseason actions taken in 2019 and the 2020 catch limit.

Inseason Actions

Inseason Action #1: At 6 a.m. PDT on August 4, 2019, in anticipation of the Pacific bluefin tuna harvest level reaching 375 mt, the commercial Pacific bluefin tuna trip limit was reduced to two mt.

Inseason Action #2: At 12 a.m. PDT on August 11, 2019, NMFS increased the commercial Pacific bluefin tuna trip limit to 15 mt. NMFS evaluated all available information on catches and estimated that 236 mt of commercially-caught Pacific bluefin tuna had been caught to date; consequently, NMFS determined Inseason Action #1 to reduce the trip limit was premature. In accordance with the 2019-2020 regulations, NMFS increased the trip limit again.

2020 Catch Limit

The commercial Pacific bluefin tuna catch limit for 2020 is 356 mt based on the factors described under Background.

Classification

NOAA's Assistant Administrator (AA) for NMFS finds that good cause exists for this notification to be issued without affording prior notice and opportunity for public comment under 5 U.S.C. 553(b)(B) because such notification would be impracticable. As previously noted, actual notice of the regulatory action was provided to fishermen through posting on the website, and followed up with radio notification. This action complies with the requirements of the annual management measures for the commercial Pacific bluefin tuna fishery (84 FR 18409, May 1, 2019) and implementing regulations under 50 CFR 300.25. Prior notice and opportunity for public comment was impracticable because NMFS had insufficient time to provide for prior notice and the opportunity for public comment between the time catch was estimated and the time the fishery modifications had to be implemented in order to ensure that the catch limits were not exceeded. The AA also finds good cause to waive the 30-day delay in effectiveness required under 5 U.S.C. 553(d)(3), as a delay in effectiveness of this action would allow fishing at levels inconsistent with the goals of the current management measures.

This action is authorized by 50 CFR 300.25 and is exempt from review under Executive Order 12866.

Authority: 16 U.S.C. 951 et seq.

Dated: January 22, 2020.
Karyl K. Brewster-Geisz,
Acting Director, Office of Sustainable Fisheries, National Marine Fisheries Service.

[FR Doc. 2020-01329 Filed 2-3-20; 8:45 am]

BILLING CODE 3510-22-P